INTERNATIONAL TRADE COMMISSION

[Investigation No. TA-204-12]

Steel: Evaluation of the Effectiveness of Import Relief

AGENCY: International Trade Commission.

ACTION: Revised schedule for hearings, briefs, and submissions in the subject investigation.

DATES: Effective Date: July 5, 2005.

FOR FURTHER INFORMATION CONTACT: Douglas Corkran (202) 205-3057, Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: The Commission published its notice of investigation in this proceeding in the Federal Register on April 4, 2005 (70 FR 17113), and in that notice set out a schedule that included four days for public hearings and deadlines for filing pre-hearing and post-hearing briefs. In that notice the Commission asked that requests to appear at the hearings be filed in writing with the Secretary to the Commission by June 20, 2005, “so that the Commission may determine the level of interest in the hearings.”

Based on the requests filed by parties and non-parties, the Commission has revised its schedule to consolidate the previously announced four days of public hearings to a one-day hearing on July 21, 2005, and to change the deadline for filing post-hearing briefs and written statements. The revised schedule is as follows: (1) The Commission will hold its public hearing in this investigation at 9:30 a.m. on July 21, 2005, at the U.S. International Trade Commission Building; (2) the deadline for filing pre-hearing briefs will remain July 12, 2005; and (3) the deadline for filing post-hearing briefs is changed to July 29, 2005. Any person who has not entered an appearance as a party to the investigation may submit a written statement concerning matters to be addressed in the report on or before July 29, 2005. All other dates remain the same as announced in the original notice of investigation, including the dates for release of the pre-hearing staff report and the pre-hearing conference (if needed).

For further information concerning this investigation see the Commission's notice cited above and the Commission's Rules of Practice and Procedure, part 201, subparts A through E (19 CFR part 201), and part 207, subparts A and C (19 CFR part 207).

Authority: This investigation is being conducted under the authority of section 204(d) of the Trade Act of 1974; this notice is published pursuant to section 206.3 of the Commission's rules.

By order of the Commission.
Issued: July 5, 2005.
Marilyn R. Abbott,
Secretary to the Commission.

[FR Doc. 05-13528 Filed 7-8-05; 8:45 am]

BILLING CODE 7020-02-P